DEPARTMENT OF VETERANS AFFAIRS

[OMB Control No. 2900-0009]

Agency Information Collection (Disabled Veterans Application for Vocational Rehabilitation) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before July 20, 2011.

ADDRESSES: Submit written comments on the collection of information through http://www.Regulations.gov or to VA's OMB Desk Officer, OMB Human Resources and Housing Branch, New Executive Office Building, Room 10235, Washington, DC 20503; (202) 395-7316. Please refer to “OMB Control No. 2900-0009” in any correspondence.

FOR FURTHER INFORMATION CONTACT: Denise McLamb, Enterprise Records Service (005R1B), Department of Veterans Affairs, 810 Vermont Avenue, NW., Washington, DC 20420, (202) 461-7485, FAX (202) 461-0966 or e-mail denise.mclamb@va.gov. Please refer to “OMB Control No. 2900-0009.”

SUPPLEMENTARY INFORMATION: Title: Disabled Veterans Application for Vocational Rehabilitation (Chapter 31, Title 38 U.S.C), VA Form 28-1900.

OMB Control Number: 2900-0009.

Type of Review: Extension of a currently approved collection.

Abstract: VA Form 28-1900 is completed by Veterans with a combined service-connected disability rating of ten percent or more and awaiting discharge for such disability to apply for vocational rehabilitation benefits. VA provides service and assistance to veterans with disabilities, who have an entitlement determination, to gain and keep suitable employment. Vocational rehabilitation also provides service to support veterans with disabilities to achieve maximum independence in their daily living activities if employment is not reasonably feasible. VA uses the information collected to determine the claimant's eligibility for vocational rehabilitation benefits.

An agency may not conduct or sponsor, and a person is not required to respond to a collection of information unless it displays a currently valid OMB control number. The Federal Register Notice with a 60-day comment period soliciting comments on this collection of information was published on April 13, 2011, at pages 20821-20822.

Affected Public: Individuals or households.

Estimated Annual Burden: 16,961 hours.

Estimated Average Burden per Respondent: 15 minutes.

Frequency of Response: Annually.

Estimated Number of Respondents: 67,844.

By direction of the Secretary.
Dated: June 15, 2011.
Denise McLamb,
Program Analyst, Enterprise Records Service.

[FR Doc. 2011-15198 Filed 6-17-11; 8:45 am]

BILLING CODE 8320-01-P